DEPARTMENT OF THE INTERIOR

Bureau of Indian Affairs

Public Law 93-599 Transfer of Excess Property—Cherokee Nation, OK

AGENCY: Bureau of Indian Affairs, Interior.

ACTION: Notice of Land Transfer from the General Services Administration.

SUMMARY: This notice informs the public that the General Services Administration (GSA), Greater Southwest Region, Fort Worth, Texas, has transferred approximately 790.70 acres, of excess property, more or less, in Sequoyah County, Oklahoma, to the Secretary of the Interior, to be held in trust for the benefit and use of the Cherokee Nation.

FOR FURTHER INFORMATION CONTACT: Ben Burshia, Bureau of Indian Affairs, Division of Real Estate Services, Mail Stop-4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

On March 4, 1998, pursuant to authority contained in the Federal Property and Administrative Services Act of 1949, as amended by Public Law 93-599, dated January 2, 1975 (88 Stat. 1954), the below described property was transferred by the Local GSA Regional (7) Administrator of the General Services Administration, without compensation or reimbursement, to the Secretary of the Interior, to be held in trust for the benefit and use of the Cherokee Nation of Oklahoma.

The description of the real property, known as the Robert S. Kerr Lock and Dam and Reservoir, (GSA Control No. 7-D-OK-561), is more particularly described as follows:

Indian Meridian, Sequoyah County, Oklahoma

A parcel of land located in Sections 21, 27, 28 and 33, Township 11 North, Range 23 East, of the Indian Meridian, in Sequoyah County, Oklahoma, more particularly described as:

Beginning at the Section Corner common to Sections 20, 21, 28, and 29, Township 11 North, Range 23 East;

Thence N 89°45′41″ E along the South line of said Section 21, a distance of 1654.37 feet, to Corps of Engineers Monument (C. of E. Mon.) 7-8;

Thence N 13°45′51″ E a distance of 1367.13 feet, to C. of E. Mon. 6-7;

Thence S 89°59′44″ E a distance of 662.09 feet to C. of E. Mon. 5-6;

Thence S 00°14′29″ E a distance of 1323.70 feet, to C. of E. Mon. 8-5;

Said monument being on the South line of Section 21;

Thence N 89°45′41″ E along said line, a distance of 2151.71 feet, to C. of E. Mon. 3-4;

Thence S 24°08′40″ W a distance of 1914.38 feet;

Thence N 88°27′25″ W a distance of 771.75 feet;

Thence N 27°36′48″ W a distance of 1800.00 feet;

Thence S 89°53′12″ W a distance of 830.00 feet;

Thence S 00°06′48″ E a distance of 1520.00 feet;

Thence S 20°38′51″ E a distance of 1535.02 feet;

Thence N 84°26′32″ E a distance of 1710.92 feet;

Thence N 59°37′02″ E a distance of 1327.14 feet;

Thence N 07°56′57″ E a distance of 228.68 feet;

Thence N 62°39′01″ E a distance of 190.50 feet;

Thence S 43°00′46″ E a distance of 173.50 feet, to a point on the East line of said Section 28, said line also being the West line of said Section 27;

Thence N 52°15′59″ E a distance of 334.62 feet;

Thence S 52°39′33″ E a distance of 294.34 feet;

Thence S 22°16′40″ W a distance of 471.06 feet;

Thence S 26°13′22″ W a distance of 404.66 feet;

Thence S 36°11′52″ W a distance of 242.52 feet, to the West line of said Section 27, said line also being the East line of said Section 28;

Thence S 33°37′32″ W a distance of 379.37 feet;

Thence S 47°58′46″ W a distance of 1234.39 feet;

Thence S 54°48′57″ W a distance of 1174.84 feet;

Thence S 05°41′58″ W a distance of 663.65 feet;

Thence S 42°22′50″ W a distance of 2046.21 feet;

Thence S 78°00′52″ E a distance of 2109.25 feet;

Thence S 15°06′48″ E a distance of 2770.00 feet;

Thence S 89°44′13″ W a distance of 1660.00 feet;

Thence S 00°10′38″ E a distance of 422.41 feet, to the south line of said Section 33;

Thence S 89°51′01″ W along said line, a distance of 1676.13 feet;

Thence N 12°43′20″ W a distance of 5409.62 feet, to the Section Corner common to Sections 28, 29, 32 and 33, Township 11 North, Range 23 East;

Thence N 00°10′38″ W along the West line of said Section 28, a distance of 5274.35 feet, more or less to the Point of Beginning.

The above described lands contain a total of 790.70 acres, more or less, which is transferred subject to compliance with the provisions of the National Environmental Policy Act of 1969, as amended, Section 106 of the National Historic Preservation Act of 1966, as amended, Executive Order 11593, Protection and Enhancement of the Cultural Environment, Executive Orders 11988 and 11990, Subject: Floodplain Management and Protection of Wetlands, and other appropriate guidelines, valid rights, reservations, rights-of-way, easements of record, regulations, laws, and Executive Orders pertaining to the future use of this property.

This Notice does not affect title to the land described above, nor does it affect any valid existing easements for public roads and highways, public utilities, railroads and pipelines, and any other rights-of-way or reservations of record.

Dated: March 28, 2008.
Carl J. Artman,
Assistant Secretary—Indian Affairs.

[FR Doc. E8-7198 Filed 4-4-08; 8:45 am]

BILLING CODE 4310-W7-P